DEPARTMENT OF JUSTICE

Antitrust Division

Notice Pursuant to the National Cooperative Research and Production Act of 1993—Members of SGIP 2.0, Inc.

Notice is hereby given that, on April 7, 2015, pursuant to Section 6(a) of the National Cooperative Research and Production Act of 1993, 15 U.S.C. 4301 et seq. (“the Act”), Members of SGIP 2.0, Inc. (“MSGIP 2.0”) has filed written notifications simultaneously with the Attorney General and the Federal Trade Commission disclosing changes in its membership. The notifications were filed for the purpose of extending the Act's provisions limiting the recovery of antitrust plaintiffs to actual damages under specified circumstances. Specifically, JKN Consulting, Scotts Valley, CA; FREEDM Systems Center, Raleigh, SC; CMG Consulting LLC, Austin, TX; Energy Central, Aurora, CO; Ernst & Young, London, UNITED KINGDOM; Nikos Hatziargyriou Technical Office Consultants, Athens, GREECE; Geza Joos (individual member), Outremont, Quebec City, CANADA; Real-Time Innovations, Inc., Sunnyvale, CA; Energy Alternative Solutions, LLC, Bel Air, MD; and CPS Energy, San Antonio, TX, have been added as parties to this venture.

Also, Drummond Group, Inc., Austin, TX; Taiwan Smart Grid Industry Association (TSGIA), Taipei City, TAIWAN; Power Systems Engineering Research Center (PSERC), Tempe, AZ; Microsoft Corporation, Redmond, WA; Emerson Electric Co., St. Louis, MO; Ambient Corporation, Newton, MA; Verizon Communications, Basking Ridge, NJ; MISO, Carmel, IN; Florida Power & Light Company, Juno Beach, FL; Homegrid Forum, Portland, OR; QualityLogic, Inc., Moorpark, CA; Schneider Electric, Norcross, GA; LonMark International, San Jose, CA; Kyocera Telecommunications Research Center (KTRC), Freemont, CA; Sharon Albrecht (individual member), Austin, TX; Korea Testing Laboratory, Guro-gu, Seoul, REPUBLIC OF KOREA; PosiGen, Metairie, LA; College of Engineering, Computer Science, and Construction Management CSU—Chico, Chico, CA; XBRL US, Inc., Washington, DC; and JLM Energy Inc., Rocklin, CA, have withdrawn as parties to this venture.

No other changes have been made in either the membership or planned activity of the group research project. Membership in this group research project remains open, and MSGIP 2.0 intends to file additional written notifications disclosing all changes in membership.

On February 5, 2013, MSGIP 2.0 filed its original notification pursuant to Section 6(a) of the Act. The Department of Justice published a notice in the Federal Register pursuant to Section 6(b) of the Act on March 7, 2013 (78 FR 14836).

The last notification was filed with the Department on January 14, 2015. A notice was published in the Federal Register pursuant to Section 6(b) of the Act on February 27, 2015 (80 FR 10715).

Patricia A. Brink,
Director of Civil Enforcement, Antitrust Division.

[FR Doc. 2015-11610 Filed 5-13-15; 8:45 am]

BILLING CODE P